DEPARTMENT OF THE INTERIOR

Fish and Wildlife Service

[FWS-R3-ES-2012-N138: FX3ES11130300000D2-123-FF03E00000]

Proposed Information Collection; Bald Eagle Post-delisting Monitoring

AGENCY: Fish and Wildlife Service, Interior.

ACTION: Notice; request for comments.

SUMMARY: We (U.S. Fish and Wildlife Service) will ask the Office of Management and Budget (OMB) to approve the information collection (IC) described below. As required by the Paperwork Reduction Act of 1995 and as part of our continuing efforts to reduce paperwork and respondent burden, we invite the general public and other Federal agencies to take this opportunity to comment on this IC. This IC is scheduled to expire on November 30, 2012. We may not conduct or sponsor and a person is not required to respond to a collection of information unless it displays a currently valid OMB control number.

DATES: To ensure that we are able to consider your comments on this IC, we must receive them by August 6, 2012.

ADDRESSES: Send your comments on the IC to the Service Information Collection Clearance Officer, U.S. Fish and Wildlife Service, MS 2042-PDM, 4401 North Fairfax Drive, Arlington, VA 22203 (mail); or INFOCOL@fws.gov (email). Please include “1018-0143” in the subject line of your comments.

FOR FURTHER INFORMATION CONTACT: To request additional information about this IC, contact Hope Grey at INFOCOL@fws.gov (email) or 703-358-2482 (telephone).

SUPPLEMENTARY INFORMATION:

I. Abstract

This information collection implements the requirements of the Endangered Species Act (16 U.S.C. 1531 et seq.) (ESA). There are no corresponding Service regulations for the ESA's post-delisting monitoring requirement.

The bald eagle (Haliaeetus leucocephalus) in the lower 48 States was removed from the List of Endangered and Threatened Wildlife (delisted) on August 8, 2007 (72 FR 37346, July 9, 2007). Section 4(g) of the ESA requires that all species that are recovered and removed from the List of Endangered and Threatened Wildlife be monitored in cooperation with the States for a period of not less than 5 years. The purpose of this requirement is to detect any failure of a recovered species to sustain itself without the protections of the ESA. We work with relevant Federal, State, and tribal entities, and other species experts to develop plans and procedures for systematically monitoring recovered wildlife and plants after a species is delisted.

The bald eagle has a large geographic distribution that includes a substantial amount of non-Federal land. Although the ESA requires that monitoring of recovered species be conducted for not less than 5 years, the life history of bald eagles is such that it is appropriate to monitor this species for a longer period of time in order to meaningfully evaluate whether or not the bald eagle continues to maintain its recovered status.

We plan to monitor the status of the bald eagle in the 48 contiguous States by collecting data on nests over a 20-year period with sampling events held once every 5 years. The Post-delisting Monitoring Plan for the Bald Eagle (Plan) describes monitoring procedures and methods. The Plan is available at http://www.fws.gov/midwest/eagle/protect/FINAL_BEPDM11May2010.pdf. We will use the monitoring data to review the status of the bald eagle in the United States and determine if it remains recovered and, therefore, does not require the protections of the ESA.

II. Data

OMB Control Number: 1018-0143.

Title: Bald Eagle Post-delisting Monitoring.

Type of Request: Extension of a currently approved collection.

Description of Respondents: States, tribes, and local governments; Federal land managers; and nongovernmental partners.

Respondent's Obligation: Voluntary.

Frequency of Collection: Once every 5 years.

Note: For each 5-year survey, we estimate a total of 48 respondents will provide 48 responses totaling 1,478 burden hours. The burden estimates below are annualized over the 3-year period of OMB approval.

Estimated Annual Number of Respondents: 16.

Estimated Total Annual Responses: 16.

Estimated Time per Response: 30.8 hours.

Estimated Total Annual Burden Hours: 493.

III. Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that we will be able to do so.

Dated: May 31, 2012.
Tina A. Campbell,
Chief, Division of Policy and Directives Management, U.S. Fish and Wildlife Service.

[FR Doc. 2012-13793 Filed 6-6-12; 8:45 am]

BILLING CODE 4310-55-P